DEPARTMENT OF COMMERCE

Foreign-Trade Zones Board

[B-17-2013]

Foreign-Trade Zone 84—Houston, Texas; Authorization of Production Activity; Toshiba International Corporation; (Hybrid Electric Vehicle Motors and Generators Production); Houston, Texas

On February 11, 2013, the Port of Houston Authority, grantee of FTZ 84, submitted a notification of proposed production activity on behalf of Toshiba International Corporation, located in Houston, Texas.

The notification was processed in accordance with the regulations of the FTZ Board (15 CFR part 400) including notice in the Federal Register inviting public comment (78 FR 13857, 03-01-2013). The FTZ Board has determined that no further review of the activity is warranted at this time. The production activity described in the notification is authorized, subject to the FTZ Act and the Board's regulations, including Section 400.14.

Dated: June 11, 2013.
Elizabeth Whiteman,
Acting Executive Secretary.

[FR Doc. 2013-14539 Filed 6-17-13; 8:45 am]

BILLING CODE 3510-DS-P